DEPARTMENT OF COMMERCE

National Oceanic and Atmospheric Administration

[I.D. 121200J]

Marine Mammals; File No. 87-1593-00

AGENCY: National Marine Fisheries Service (NMFS), National Oceanic and Atmospheric Administration (NOAA), Commerce.

ACTION: Issuance of permit.

SUMMARY: Notice is hereby given that Dr. Daniel Costa (Principal Investigator), Institute of Marine Sciences, Earth & Marine Sciences Bldg. A316, University of California, Santa Cruz, CA, 95064, has been issued a permit to take California sea lions (Zalophus californianus) and Antarctic pinnipeds for purposes of scientific research.

DATES: Written or telefaxed comments must be received on or before March 30, 2001.

ADDRESSES: The permit and related documents are available for review upon written request or by appointment in the following office(s):

Permits and Documentation Division, Office of Protected Resources, NMFS, 1315 East-West Highway, Room 13130, Silver Spring, MD 20910 (301/713-2289); and

Southwest Region, NMFS, 501 West Ocean Blvd., Suite 4200, Long Beach, CA 90802-4213; phone (562)980-4001; fax (562)980-4018.

FOR FURTHER INFORMATION CONTACT: Ruth Johnson, 301/713-2289.

SUPPLEMENTARY INFORMATION: On August 15, 2000, and on November 15, 2000, notices were published in the Federal Register (65 FR 49786 and 68983) that a request for a scientific research permit to take California sea lions and Antarctic pinnipeds had been submitted by the above-named individual.

Project I - The Holder is studying the foraging ecology and energetics of California sea lions of all age and sex classes in southern and central California, including San Nicolas, Ano Nuevo and San Miguel Islands. The Permit authorizes, annually, for 5 years, 40 adult sea lions and 100 pup sea lions will be captured, tagged, bleach marked, instrumented with satellite linked TDRs, blood sampled, and measured. In addition the Holder is authorized to incidentally harass up to 6,650 animals annually and is allowed up to five accidental mortalities over the five-year period.

Project II - The Holder is studying Crabeater seals (Lobodon carcinophagus). The Permit authorizes annually, for up to 5 years, 25 L. carcinophagus and 10 each for leopard seal (Hydrurga leptonyx), Weddell seal (Leptonychotes weddellii), and Ross seal (Ommatophoca rossii). Animals will be captured, immobilized, weighed/measured, sampled [blood and biopsy, whisker], administered tritiated saline water, flipper tagged, marked, lavaged for stomach contents, and instrumented with VHF/satellite transmitters. The project will determine the distribution and foraging behavior of adult Crabeater seals and simultaneously assess the impact that oceanographic features and prey aggregations have on foraging strategies employed. Equivalent data will be obtained for other species. Research will occur in Marguerite Bay, West Antarctic Peninsula. Opportunistic samples will be collected from dead beach cast seals for deposit in the natural history collection at the University.

The requested permit has been issued under the authority of the Marine Mammal Protection Act of 1972, as amended (16 U.S.C. 1361 et seq.), and the Regulations Governing the Taking and Importing of Marine Mammals (50 CFR part 216).

Dated: February 21, 2001.
Ann D. Terbush,
Chief, Permits and Documentation Division, Office of Protected Resources, National Marine Fisheries Service.

[FR Doc. 01-4892 Filed 2-27-01; 8:45 am]

BILLING CODE 3510-22-S